DEPARTMENT OF AGRICULTURE

Agency Information Collection Activities; Proposed Collection; Comment Request—SuperTracker Information Collection for Registration, Login, and Food Intake and Physical Activity Assessment Information

AGENCY: Center for Nutrition Policy and Promotion (CNPP), USDA.

ACTION: Notice.

SUMMARY: In accordance with the Paperwork Reduction Act of 1995, this notice invites the general public and other public agencies to comment on a proposed information collection. This is an extension with revision to a currently approved collection. The SuperTracker is an on-line dietary and physical activity self-assessment tool. The information collected can only be accessed by the user and will not be available to CNPP or any other public agency for purposes of evaluation or identification.

DATES: Written comments on this notice must be submitted on or before May 7, 2012.

ADDRESSES: Comments are invited on (a) whether the proposed collection of information is necessary for the proper performance of the functions of the agency, including whether the information will have practical utility; (b) the accuracy of the agency's estimate of the burden of the proposed collection of information, including the validity of the methodology and assumptions used; (c) ways to enhance the quality, utility and clarity of the information collected; and (d) ways to minimize the burden of the collection of information on those who are to respond, including the use of appropriate automated, electronic, mechanical, or other technological collection techniques or other forms of information technology.

Comments may be sent to Jackie Haven, Director, Nutrition Marketing and Communication Division, Center for Nutrition Policy and Promotion, U.S. Department of Agriculture, 3101 Park Center Drive, Room 1034, Alexandria, Virginia, 22302. You may also download an electronic version of this notice at http://www.fns.usda.gov/fsp/rules/regulations/default.htm and comment via email at SNAPHQ-Web@fns.usda.gov or use the Federal e-Rulemaking Portal. Go to http://www.regulations.gov and follow the online instructions for submitting comments electronically.

All responses to this notice will be summarized and included in the request for Office of Management and Budget (OMB) approval. All comments will also become a matter of public record.

FOR FURTHER INFORMATION CONTACT: Requests for additional information should be directed to Donna Johnson-Bailey, (703) 305-7600.

SUPPLEMENTARY INFORMATION:

Title: SuperTracker Information Collection for Registration, Login and Food Intake and Physical Activity Assessment.

OMB Control Number: 0584-0535.

Expiration Date: July 31, 2012.

Type of Request: Revision of a currently approved collection.

Abstract: SuperTracker is an Internet based diet and physical activity self-assessment tool which allows users to monitor their daily food intakes and physical activity information. Based on 2010 Dietary Guidelines, the SuperTracker delivers nutrition education by allowing users to monitor their intake and explore ways to improve their food and physical activity choices. Motivational education messages are generated and tailored to the user's personal assessment results.

Individuals can use the SuperTracker without registration. However, all users may voluntarily enter and save information by registering with a username and password. The historical and trend data entered allows users to identify areas for improvement and reference short- and long- term changes to diet and physical activity behaviors. SuperTracker includes optional functions that consumers may use at their discretion, including a journaling feature to capture information for a selected category. Consumers may also post system-generated congratulatory and tip messages to Facebook or Twitter using their personal social media account. Through leveraging the user's existing social network, the user is more likely to experience positive feedback and encouragement in achieving their dietary and/or physical activity goals. Social media functionality is provided as a consumer benefit but does not impact consumer results or reports. The previous online tools provided limited functionality and more complex reporting features. The revised SuperTracker offers streamlined navigation features allowing consumers to quickly and easily enter data for one or multiple days. SuperTracker integrates all features and functions found in previous CNPP online diet and physical activity tools into one application within the ChooseMyPlate.gov Web site. Hence, all access to the SuperTracker is obtained through the ChooseMyPlate.gov.

Affected Public: Individual/Households.

Estimated Number of Respondents:

The following total annual burden estimates are based on the data obtained from current web trend tool, Google Analytics from June 2011—January 2012. Revised estimates are based on an increased number of visits to the Web site, the average time per visit and the increased efficiency of the tool that combines all functions from previous online assessment tools into one.

• The number of annual visitors to the Web site is expected to be about 11.2 million and they will spend approximately 5 minutes one time only.

• Approximately 30% of annual visitors will complete a one-time registration, log-in and assessment for the revised online assessment tool. This information is based on data from the previous most frequently used online tool (rounded up = 3.3 million).

• The average number of weekly visitors is approximately 200,000.

• 30% of the weekly visitors return each week to complete tracking activities (approximately 60,000).

Estimated Time per Response: For the SuperTracker, it will take individuals approximately 1 minute (.0167) to initially register for a system logon ID and password. It typically takes users 30 seconds (.0083) to routinely login to the system and approximately 15 minutes (.25) to complete food and physical activity data entry log for 1 day. Based on Google Analytics, repeat users will enter data on average 3 times per week. The amount of time spent completing entry and using expanded functionality is estimated at 45 minutes per week.

Reporting Burden
Affected public | Description of activity | (b) Form No. | (c ) Number annual respondents | (d) Annual frequency of responses per respondent | (e) Estimated total annual responses (c × d) | (f) Hours per response | (g) Total annual burden (e × f)
Individual and Households | Annual Website Visitors |  | 11,200,000 | 1 | 11,200,000 | 0.05 | 560,000
| One time SuperTracker Registration | N/A | 3,300,000 | 1 | 3,300,000 | 0.0167 | 55,110
| One time SuperTracker Log-in | N/A | 3,300,000 | 1 | 3,300,000 | 0.0083 | 27,390
| Food/Physical Activity Data Entry for 1 Week | N/A | 3,300,000 | 1 | 3,300,000 | 0.25 | 825,000
| Repeat Log-ins for 1 Year | N/A | 60,000 | 51 | 3,060,000 | 0.0083 | 25,398
| Repeat Food/Physical Activity Data Entries for 1 Year | N/A | 60,000 | 51 | 3,060,000 | 0.75 | 2,295,000
Total Annual Burden Estimated |  |  | 11,200,000 |  | 27,220,000 |  | 3,787,898

Dated: March 1, 2012.
Rajen Anand,
Executive Director, Center for Nutrition Policy and Promotion.

[FR Doc. 2012-5440 Filed 3-6-12; 8:45 am]

BILLING CODE 3410-30-P